DEPARTMENT OF HEALTH AND HUMAN SERVICES

Food and Drug Administration

DEPARTMENT OF AGRICULTURE

[Docket No. FDA-2025-N-1793]

Ultra-Processed Foods; Request for Information; Extension of Comment Period

AGENCY: Food and Drug Administration (FDA), U.S. Department of Health and Human Services (HHS); U.S. Department of Agriculture (USDA).

ACTION: Notice; request for information; extension of comment period.

SUMMARY: FDA and USDA (we) are extending the comment period for the notice that appeared in the Federal Register of July 25, 2025. In the notice, we requested data and information to help develop a uniform definition of ultra-processed foods (UPF or UPFs). In response to requests for an extension, we are extending the comment period until October 23, 2025, to allow interested persons additional time to submit comments.

DATES: We are extending the comment period announced in the notice published July 25, 2025 (90 FR 35305). Electronic or written comments must be submitted by October 23, 2025.

ADDRESSES: You may submit comments as follows. Please note that late, untimely filed comments will not be considered. The https://www.regulations.gov electronic filing system will accept comments until 11:59 p.m. Eastern Time at the end of October 23, 2025. Comments received by mail/hand delivery/courier (for written/paper submissions) will be considered timely if they are received on or before that date.

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2025-N-1793 for “Ultra-Processed Foods; Request for Information.” Received comments, those filed in a timely manner (see ADDRESSES), will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” We will review this copy, including the claimed confidential information, in our consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT:

FDA: Claudine Kavanaugh, Office of Nutrition and Food Labeling, Human Foods Program, Food and Drug Administration, 5001 Campus Dr., College Park, MD 20740, 301-796-4647; or Meadow Platt, Office of Policy, Regulations, and Information, Human Foods Program, Food and Drug Administration, 5001 Campus Dr., College Park, MD 20740, 240-402-2378.

USDA: Eve Stoody, Food and Nutrition Service, United States Department of Agriculture, 1320 Braddock Place, Alexandria, VA 22314, 703-305-2062.

SUPPLEMENTARY INFORMATION: In the Federal Register of July 25, 2025, FDA and USDA published a notice requesting data and information to help develop a uniform definition of ultra-processed foods for human food products in the U.S. food supply (90 FR 35305). A uniform UPF definition, developed as part of a joint effort by federal agencies, would allow for consistency in research and policy to pave the way for addressing health concerns associated with the consumption of UPFs. The notice requested comments by September 23, 2025.

We have received requests to extend the comment period for the notice. Pointing to the complexity of the questions, the importance of the issue, and other factors, the requests assert that additional time would allow stakeholders to provide FDA and USDA detailed responses. We have considered the requests and are extending the comment period for the notice by 30 days, until October 23, 2025. We believe that the extension will allow adequate time for interested persons to submit comments.

Grace R. Graham,
Deputy Commissioner for Policy, Legislation, and International Affairs, Food and Drug Administration.
Patrick A. Penn,
Deputy Under Secretary for Food, Nutrition, and Consumer Services, U.S. Department of Agriculture.

[FR Doc. 2025-18169 Filed 9-18-25; 8:45 am]

BILLING CODE 4164-01-P